DEPARTMENT OF TRANSPORTATION

Federal Aviation Administration

14 CFR Part 73

[Docket No. FAA-2004-19438; Airspace Docket No. 04-ASO-9]

RIN 2120-AA66

Amendment to Restricted Areas 2932, 2933, 2934, and 2935; Cape Canaveral, FL

AGENCY: Federal Aviation Administration (FAA), DOT.

ACTION: Final rule, correction.

SUMMARY: This action corrects a final rule published in the Federal Register on November 23, 2004 (69 FR 68075). In that rule, the effective date was inadvertently published as January 20, 2004. The correct effective date is January 20, 2005. This action corrects that error.

DATES: Effective 0901 UTC, January 20, 2005.

FOR FURTHER INFORMATION CONTACT: Paul Gallant, Airspace and Rules, Office of System Operations and Safety, Federal Aviation Administration, 800 Independence Avenue, SW., Washington, DC 20591; telephone: (202) 267-8783.

SUPPLEMENTARY INFORMATION: On November 23, 2004, Airspace Docket No. 04-ASO-9 (69 FR 68075), was published amending Restricted Areas 2932, 2933, 2934, and 2935, Cape Canaveral, FL. In that rule, the effective date was inadvertently published as January 20, 2004. The correct effective date is January 20, 2005. This action corrects that error.

Correction to Final Rule

Accordingly, pursuant to the authority delegated to me, the effective date for Airspace Docket No. 04-ASO-9, as published in the Federal Register on November 23,2004 (69 FR 68075), is corrected as follows:

On page 68075, correct the effective date to read January 20, 2005.

Issued in Washington, DC, on December 2, 2004.
Reginald C. Matthews,
Manager, Airspace and Rules.

[FR Doc. 04-26978 Filed 12-7-04; 8:45 am]

BILLING CODE 4910-13-P